DEPARTMENT OF TRANSPORTATION

Federal Aviation Administration

Notice of Intent To Rule on Request To Release Airport Property at the South Texas Regional Airport, Hondo, Texas

AGENCY: Federal Aviation Administration (FAA), DOT.

ACTION: Notice of request to release airport property.

SUMMARY: The FAA proposes to rule and invite public comment on the release of land at the South Texas Regional Airport under the provisions of the Federal Property and Administrative Services Act of 1949, and the Surplus Property Act of 1944.

DATES: Comments must be received on or before March 10, 2025.

ADDRESSES: Comments on this application may be mailed or delivered to the FAA at the following address: Mr. Rodney Clark, Manager, Federal Aviation Administration, Southwest Region, Airports Division, Texas Airports Development Office, ASW-650, Fort Worth, Texas 76177.

In addition, one copy of any comments submitted to the FAA must be mailed or delivered to Ryan Elder, Director of Aviation, at the following address: 700 Vandenberg Road, Hondo, Texas 78861.

FOR FURTHER INFORMATION CONTACT: Mr. Michael Van Vliet, Assistant Manager, Federal Aviation Administration, Texas Airports Development Office, ASW-650, 10101 Hillwood Parkway, Fort Worth, Texas 76177, Telephone: (817) 222-5132, Email: Michaael.E.Van.Vliet@FAA.gov, Fax: (817) 222-5987.

SUPPLEMENTARY INFORMATION: The South Texas Regional Airport under the provisions of the Federal Property and Administrative Services Act of 1949, and the Surplus Property Act of 1944.

The following is a brief overview of the request: The City of Hondo requests the release of 100.763 acres of land located within the South Texas Regional Airport, Hondo, Texas 78861. The land was acquired by Indenture under and pursuant to Reorganization Plan One of 1947 (12 FR 4534) and the Surplus Property Act of 1944. The property to be released will be sold and revenues shall be used to enhance development, operations and maintenance of the airport. Any person may inspect the request in person at the FAA office listed above under FOR FURTHER INFORMATION CONTACT.

In addition, any person may, upon request, inspect the application, notice and other documents relevant to the application in person at the South Texas Regional Airport, telephone number (830) 426-6989.

Issued in Fort Worth, Texas on February 3, 2025.
D. Cameron Bryan,
Deputy Director, Office of Airports Southwest Region.

[FR Doc. 2025-02335 Filed 2-6-25; 8:45 am]

BILLING CODE 4910-13-P